SMALL BUSINESS ADMINISTRATION

[Disaster Declaration # 10857 and # 10858]

New Hampshire Disaster Number NH-00004

AGENCY: U.S. Small Business Administration.

ACTION: Amendment 1.

SUMMARY: This is an amendment of the Presidential declaration of a major disaster for the State of New Hampshire (FEMA-1695-DR) , dated 4/27/2007.

Incident: Severe Storms and Flooding.

Incident Period: 4/15/2007 and continuing through 4/23/2007.

DATES: Effective Date: 5/7/2007.

Physical Loan Application Deadline Date: 6/26/2007.

EIDL Loan Application Deadline Date: 1/28/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for the State of New Hampshire, dated 4/27/2007 is hereby amended to establish the incident period for this disaster as beginning 4/15/2007 and continuing through 4/23/2007.

All other information in the original declaration remains unchanged.

(Catalog of Federal Domestic Assistance Numbers 59002 and 59008)

Herbert L. Mitchell,
Associate Administrator for Disaster Assistance.

[FR Doc. E7-9189 Filed 5-11-07; 8:45 am]

BILLING CODE 8025-01-P